DEPARTMENT OF HEALTH AND HUMAN SERVICES

Center for Disease Control and Prevention

The National Institute for Occupational Safety and Health (NIOSH) of the Centers for Disease Control and Prevention (CDC) Announces the Following Meeting

Name: Study Protocol Peer Review Meeting: Measuring Improved Metrics of EMF (Electric and Magnetic Fields) Exposure with Electric Utility Workers.

Time and Date: 9 a.m.-4 p.m., May 4, 2001.

Place: NIOSH, Robert Taft Laboratory, Auditorium, 4676 Columbia Parkway, Cincinnati, Ohio 45226.

Status: Open to the public, limited by the space available. The meeting room accommodates approximately 75 people.

Purpose: The purpose of this meeting is to provide an opportunity for individual input regarding scientific and technical aspects of a joint study by NIOSH and the Electric Power Research Institute (EPRI) on “Measuring Improved Metrics of EMF Exposure in an Electric Utility”. The study's goal is to test the feasibility of combining measurements of these new EMF exposure metrics with existing epidemiologic data to produce a more valid assessment of EMF health risks. Designated reviewers will individually critique the study protocol and provide comments on the conduct of the study and its prospects for achieving its goals. Others will be given an opportunity to provide individual comments.

Agenda items are subject to change as priorities dictate.

Contact Person for More Information and a Copy of the Protocol: Joseph Bowman, Non-ionizing Radiation Section, Engineering and Physical Hazards Branch, Division of Applied Research and Technology, NIOSH, CDC, 4676 Columbia Parkway, M/S C-27, Cincinnati, Ohio 45226, telephone 513/533-8143.

The Director, Management Analysis and Services Office, has been delegated the authority to sign Federal Register notices pertaining to announcements of meetings and other committee management activities for both CDC and the Agency for Toxic Substances and Disease Registry.

Dated: March 30, 2001.
Carolyn J. Russell,
Director, Management Analysis and Services Office, Centers for Disease Control and Prevention.

[FR Doc. 01-8386 Filed 4-4-01; 8:45 am]

BILLING CODE 4163-18-P